DEPARTMENT OF LABOR

29 CFR Part 29

RIN 1205-AB50

Apprenticeship Programs, Labor Standards for Registration, Amendment of Regulations; Extension of Time for Comments

AGENCY: Employment and Training Administration, Labor.

ACTION: Proposed rule; extension of comment period.

SUMMARY: This document informs the public that the comment period for the Notice of Proposed Rulemaking (NPRM) for Apprenticeship Programs, Labor Standards for Registration, Amendment of Regulations, published December 13, 2007 (72 FR 71020), has been extended for 30 days.

DATES: To ensure consideration, comments must be in writing and must be received on or before March 12, 2008.

ADDRESSES: You may submit comments, identified by Regulatory Information Number (RIN) 1205-AB50, by either one of the two following methods:

• Federal e-Rulemaking Portal: www.regulations.gov. Follow the Web site instructions for submitting comments.

• Mail/Hand Delivery/Courier: Written comments, disk, and CD-Rom submissions may be mailed or delivered by hand delivery/courier to Thomas M. Dowd, Administrator, Office of Policy Development and Research, U.S. Department of Labor, 200 Constitution Avenue, NW., Room N-5641, Washington, DC 20210.

Instructions: Please submit one copy of your comments by only one method. All submissions received must include the agency name, as well as RIN 1205-AB50.

Please be advised that the Department of Labor (Department) will post all comments received on www.regulations.gov without making any change to the comments, including any personal information provided. The www.regulations.gov Web site is the Federal e-rulemaking portal and all comments posted there are available and accessible to the public. Therefore, the Department recommends that commenters safeguard their personal information such as Social Security Numbers, personal addresses, telephone numbers, and e-mail addresses included in their comments. It is the responsibility of the commenter to safeguard his or her information.

Also, please note that due to security concerns, postal mail delivery in Washington, DC, may be delayed. Therefore, in order to ensure that comments receive full consideration, the Department encourages the public to submit comments via the Internet as indicated above.

Docket: The Department will make all the comments it receives available for public inspection during normal business hours at the above address. If you need assistance to review the comments, the Department will provide you with appropriate aids such as readers or print magnifiers. The Department will make copies of the proposed rule available, upon request, in large print or electronic file on computer disk. The Department will consider providing the proposed rule in other formats upon request. To schedule an appointment to review the comments and/or obtain the proposed rule in an alternate format, contact the office of Thomas M. Dowd at (202) 693-3700 (VOICE) (this is not a toll-free number) or (877) 889-5627 (TTY/TDD). You may also contact Mr. Dowd's office at the address listed above.

FOR FURTHER INFORMATION CONTACT: Sherril Hurd, Acting Regulation Unit Team Leader, Office of Policy Development and Research, U.S. Department of Labor, 200 Constitution Avenue, NW., Room N-5641, Washington, DC 20210; E-mail hurd.sherril@dol.gov; Telephone (202) 693-3700 (this is not a toll-free number).

Individuals with hearing or speech impairments may access the telephone number above via TTY by calling the toll-free Federal Information Relay Service at (800) 877-8339.

SUPPLEMENTARY INFORMATION: The Department is extending by 30 days, the comment period for the NPRM proposing revisions to the apprenticeship regulations published on December 13, 2007 (72 FR 71020).

Regulations that implement the National Apprenticeship Act at Title 29 Code of Federal Regulations (CFR) part 29 have not been updated since first promulgated in 1977. These regulations establish, for certain Federal purposes, labor standards, policies and procedures for the registration, cancellation and deregistration of apprenticeship programs, and apprenticeship agreements. Part 29 also provides for the recognition of a State Apprenticeship Agency (SAA) as an agency authorized to register local apprenticeship programs for Federal purposes, and for the revocation of such recognition. On December 13, 2007, the Department published in the Federal Register proposed revisions to update 29 CFR part 29, to ensure that the National Registered Apprenticeship System has the necessary tools and flexibility to keep pace with changes in the economy, technological advances, and corresponding workforce challenges that have occurred over the past three decades. In particular, the proposed rule updates the procedures for apprenticeship program registration, adds requirements for monitoring of program performance, and clarifies the Department's role as manager of the National Apprenticeship System. In addition, the proposed rule incorporates gender neutral terms and expands the variety of media that may be used in the delivery of related technical instruction. Such revisions will enable the Department to promote apprenticeship opportunity in the 21st century while continuing to safeguard the welfare of apprentices.

The Department published its notice of proposed rulemaking in the Federal Register of December 13, 2007 (FR Doc. E7-24178) at 72 FR 71020. The notice invited interested persons to submit written comments on the proposed rule on or before February 11, 2008. The Department received a number of requests for an extension of the comment period. After balancing the interests of timeliness and public participation, the Department has determined that it is in the public's interest to extend the comment period by 30 days. This document extends the comment period through March 12, 2008.

Douglas F. Small,
Deputy Assistant Secretary, Employment and Training Administration.

[FR Doc. E8-2452 Filed 2-8-08; 8:45 am]

BILLING CODE 4510-FR-P